FEDERAL ELECTION COMMISSION

Sunshine Act Meeting

AGENCY: Federal Election Commission.

DATE & TIME: Thursday, June 21, 2001, at 10 a.m.

PLACE: 999 E Street, NW., Washington, DC (ninth floor).

STATUS: This meeting will be open to the public.

The following item has been added to the agenda:

Final Draft of the Fourth National Voter Registration Act (NVRA) Report to the Congress

PERSON TO CONTACT FOR INFORMATION: Ron Harris, Press Officer Telephone (202) 694-1220.

Mary W. Dove,
Secretary of the Commission.

[FR Doc. 01-15484 Filed 6-5-01; 12:18 pm]

BILLING CODE 6715-01-M